DEPARTMENT OF THE INTERIOR

National Park Service

[NPS-WASO-NAGPRA-NPS0039814; PPWOCRADN0-PCU00RP14.R50000]

Notice of Intended Repatriation: University of Kansas, Lawrence, KS

AGENCY: National Park Service, Interior.

ACTION: Notice.

SUMMARY: In accordance with the Native American Graves Protection and Repatriation Act (NAGPRA), the University of Kansas intends to repatriate certain cultural items that meet the definition of objects of cultural patrimony and that have a cultural affiliation with the Indian Tribes or Native Hawaiian organizations in this notice.

DATES: Repatriation of the cultural items in this notice may occur on or after May 2, 2025.

ADDRESSES: Dr. Thomas Torma, The University of Kansas, Office of Audit Risk and Compliance, 1450 Jayhawk Boulevard, 351 Strong Hall, Lawrence, KS 66045, telephone (406) 850-2220, email t-torma@ku.edu.

SUPPLEMENTARY INFORMATION: This notice is published as part of the National Park Service's administrative responsibilities under NAGPRA. The determinations in this notice are the sole responsibility of the University of Kansas, and additional information on the determinations in this notice, including the results of consultation, can be found in the summary or related records. The National Park Service is not responsible for the determinations in this notice.

Abstract of Information Available

A total of 56 cultural items have been requested for repatriation. The 56 objects of cultural patrimony are attributed to “unrecorded Potawatomi artist” and are believed to come from northeastern Kansas. These include:

One beaded necklace, six arrows, one bow, and one lacrosse stick donated by John Edward Sullivan, a banker at Farmer's State bank in Mercier, KS, and possibly brother of Father Otho Sullivan, faculty at Benedictine College, to Father Nolte's collection at Benedictine College in 1924 and later transferred to the University of Kansas in 1992. A note associated with this collection says Potawatomie Indians, Mercier, KS (Mayetta Res).” In addition, one bow donated to the Nolte Collection at Benedictine College by an unknown donor and time and transferred to the University of Kansas in 1994.

In addition, two hair ornaments, one beaded strip, one headband, and one beaded pouch were collected by Floyd Schultz, an amateur archaeologist and ethnographer, presumably during his time working with the Prairie Band of Potawatomi between 1931 and 1940 and donated to the University of Kansas in 1951.

During the 1930s, the Works Progress Administration (WPA) was active in educating Potawatomi children in traditional arts at the Clay School in Topeka, KS. These items were later donated to the Menninger Foundation, a local mental health institution at an unknown date, and donated to the University of Kansas in 1993. These include three dolls in cradleboards, two bandolier bags, five sashes, two headbands, one beaded garter, one lacrosse stick, one set of beaded armbands, one pair of beaded cuffs, one bow, four pairs of moccasins, two drawstring bags, and one set of dance aprons.

Other items transferred from the Menninger Foundation include one beaded wand, one prescription stick, one apple drying tray, one spirit doll, one medical kit, and one medical bag purchased from or donated by Bishop's Antiques in 1964 and 1965 of Topeka, KS. One unknown tool, possibly a pestle, purchased from a seller identified as Williams and Mitchell in 1964. A person with the surname Shopteese (first name Mae?) donated two pairs of beaded moccasins in 1961 and one peyote fan in 1963. In 1972 one pair of beaded gauntlets was donated to the Menninger Foundation by Bill Griley of Mayetta, KS after the passing of his wife, Cora Griley. Other items received from the Menninger foundation include 1 spirit doll in 1962 and one rattle at an unknown time from an unknown source.

Finally, one wearing blanket donated directly to the University of Kansas by Sallie Casey Thayer before 1928 (purchased by Thayer from W.H. Wilkinson of Kansas City, MO on March 3, 1920), as was one beaded headband donated by the estate of Gertrude Greene of Concordia, KS in 1962. One pair of beaded moccasins and one beaded leg band were donated to the University of Kansas by an unknown donor or donors at an unknown time.

Determinations

The University of Kansas has determined that:

• The 56 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Prairie Band Potawatomi Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 2, 2025. If competing requests for repatriation are received, the University of Kansas must determine the most appropriate requestor prior to repatriation. Requests for joint repatriation of the cultural items are considered a single request and not competing requests. The University of Kansas is responsible for sending a copy of this notice to the Indian Tribes and Native Hawaiian organizations identified in this notice and to any other consulting parties.

Authority: Native American Graves Protection and Repatriation Act, 25 U.S.C. 3004 and the implementing regulations, 43 CFR 10.9.

Dated: March 21, 2025.
Melanie O'Brien,
Manager, National NAGPRA Program.

[FR Doc. 2025-05609 Filed 4-1-25; 8:45 am]

BILLING CODE 4312-52-P